DEPARTMENT OF THE INTERIOR

Bureau of land management

[NM-030-1920-ET; NMNM 117830]

Public Land Order No. 7724; Withdrawal of Public Land for Customs and Border Protection; New Mexico

AGENCY: Bureau of Land Management, Interior.

ACTION: Public land order.

SUMMARY: This order withdraws 20 acres of public land from surface entry and mining for a period of 20 years and transfers administrative jurisdiction to the Department of Homeland Security, Customs and Border Protection for their Deming Station Forward Operating Base.

DATES: Effective Date: January 2, 2009.

ADDRESSES: Las Cruces District Manager, Bureau of Land Management, 1800 Marquess Street, Las Cruces, New Mexico 88005, and to the U.S. Department of Homeland Security, Customs and Border Protection, 441 Duncan Highway, Lordsburg, New Mexico 88045.

FOR FURTHER INFORMATION CONTACT: Lori Allen, Bureau of Land Management, at the above address or at (575) 525-4454.

SUPPLEMENTARY INFORMATION: This withdrawal and transfer of administrative jurisdiction will allow for improved effectiveness of operations and protection of the Federal capital investment in the Deming Station Forward Operating Base.

Order

By virtue of the authority vested in the Secretary of the Interior by Section 204 of the Federal Land Policy and Management Act of 1976, 43 U.S.C. 1714 (2000), it is ordered as follows:

1. Subject to valid existing rights, the following described public land is hereby withdrawn from settlement, sale, location, or entry under the general land laws, including the United States mining laws (30 U.S.C. Ch. 2 (2000)), and administrative jurisdiction is transferred to the Department of Homeland Security, Customs and Border Protection for the Deming Station Forward Operating Base:

New Mexico Principal Meridian

T. 29 S., R. 12 W.,

Sec. 3, E½SW¼NE¼.

The area described contains 20 acres in Luna County.

2. The withdrawal made by this order does not alter the applicability of those public land laws governing the use of public land under lease, license, or permit or governing the disposal of their mineral or vegetative resources other than under the mining laws.

3. This withdrawal will expire 20 years from the effective date of this order unless, as a result of a review conducted before the expiration date pursuant to Section 204(f) of the Federal Land Policy and Management Act of 1976, 43 U.S.C. 1714(f) (2000), the Secretary determines that the withdrawal shall be extended.

Dated: December 17, 2008.
C. Stephen Allred,
Assistant Secretary—Land and Minerals Management.

[FR Doc. E8-31243 Filed 12-31-08; 8:45 am]

BILLING CODE 4310-VC-P